DEPARTMENT OF AGRICULTURE

Forest Service

Southwestern Region, Arizona, New Mexico, West Texas and Oklahoma; Proposed Projects in the Invasive Plant Analysis Area, Carson National Forest, Portions of Rio Arriba, Mora, Taos, and Colfax Counties; Santa Fe National Forest, Portions of Rio Arriba, Los Alamos, Sandoval, San Miquel, and Mora Counties, New Mexico

AGENCY: Forest Service, USDA.

ACTION: Notice of intent (NOI) to prepare an environmental impact statement.

SUMMARY: The Carson National Forest, and Santa Fe National Forest will prepare a joint environmental impact statement (EIS) to analyze information relevant to reduce and control existing populations of invasive plants within the boundaries of the two national forests. Proposed projects can be accomplished using one, or a combination of methods including mechanical, herbicidal, biological, and cultural treatments.

DATES: It is estimated that the draft environmental Impact statement (DEIS) will be completed and distributed by the end of March 2001. A 45 day comment period will follow issuance of the DEIS. The final environmental impact statement is estimated to be released in June 2001.

ADDRESSES: The draft environmental impact statement (DEIS) will be available upon request from the Carson Forest Supervisor's Office, 208 Cruz Alta Road, Taos, NM 87571, Attn: Range and Wildlife; or Santa Fe Forest Supervisor's Office, 1471 Rodeo Road, P.O. Box 1689, Santa Fe, NM 87504-1689, Attn: Range and Wildlife. Comments related to this NOI can be sent to the contractor Mike, Tremble, Ecosystem Management Inc., 4004 Carlisle Blvd., NE, Suite C1, Albuquerque, New Mexico 87107; or via e-mail at mtremble@nmia.com.

Responsible Official: The Forest Supervisor, Carson National Forest, is the responsible official and will decide whether or not projects will be implemented by the Forest Service in the Carson National Forest; The Forest Supervisor, Santa Fe National Forest, is the responsible official and will decide whether or not projects will be implemented by the Forest Service in the Santa Fe National Forest. The Forest Supervisor of each National Forest will decide what projects and where, how and when they will be implemented.

FOR FURTHER INFORMATION CONTACT: Resource Staff Officer (Project Leader), Charles Jankiewicz, Santa Fe National Forest, 505-438-7820, or Daniel Rael, Carson National Forest, 505-758-6200.

SUPPLEMENTARY INFORMATION: Location: The analysis area is the two national forests, Carson, and Santa Fe, lying predominantly in the Sange de Cristo, the Jemez, and the Tusas mountains all in central to north central New Mexico.

Purpose: The purpose of treating the invasive plant infestations within the boundaries of the Carson, and Santa Fe National Forests is to reduce the likelihood of ecological change from native plant species to introduced plant species, noxious, or detrimental to native plant communities, wildlife species, and domestic livestock.

Decisions To Be Made

The Decisions To Be Made Are

• Whether areas should be allocated to no treatment of invasive weeds (plants). If so, where and how much?

• Whether areas should be treated to reduce and control invasive weeds (plants). If so, where and how much?

• Whether one, or a combination of methods should be used, including mechanical, herbicidal, biological, or cultural treatments should be used. If so, where and how much should be treated.

Supplemental Information for Public Participation

Comments received in response to this NOI, including names and addresses of those who comment, will be considered part of the public record and will be available for public inspection. Comments submitted anonymously will be accepted and considered; however, those who submit anonymous comments will not have standing to appeal the subsequent decisions under 36 CFR parts 215 or 217. Additionally, pursuant to 7 CFR 1.23(d), any person may request the agency to withhold a submission from the public record by showing how the Freedom of Information Act (FOIA) permits such confidentiality. Persons requesting such confidentiality should be aware that, under the FOIA; confidentiality may be granted in only very limited circumstances such as to protect trade secrets. The Forest Service will inform the requester of the agency's decision regarding the request for confidentiality, and where the request is denied, the agency will return the submission and notify the requester that the comment may be resubmitted with or without name and address within 10 days.

Dated: December 8, 2000.
Steve Okamoto,
Acting Forest Supervisor, Carson National Forest.
Dolores Maese,
Acting Forest Supervisor, Santa Fe National Forest.

[FR Doc. 00-31952 Filed 12-14-00; 8:45 am]

BILLING CODE 3410-11-P